DEPARTMENT OF ENERGY

Federal Energy Regulatory Commission

[Project No. 2808-017]

Notice of Application Ready for Environmental Analysis and Soliciting Comments, Recommendations, Terms and Conditions, and Prescriptions; KEI (Maine) Power Management (III) LLC

Take notice that the following hydroelectric application has been filed with the Commission and is available for public inspection.

a. Type of Application: Subsequent Minor License.

b. Project No.: 2808-017.

c. Date filed: January 30, 2017.

d. Applicant: KEI (Maine) Power Management (III) LLC.

e. Name of Project: Barker's Mill Hydroelectric Project.

f. Location: On the Little Androscoggin River, in the City of Auburn, Androscoggin County, Maine. The project does not occupy lands of the United States.

g. Filed Pursuant to: Federal Power Act 16 U.S.C. 791(a)-825(r).

h. Applicant Contact: Lewis Loon, General Manager/Operations and Maintenance, KEI (Maine) Power Management (III) LLC, 423 Brunswick Avenue, Gardiner, ME 04345; (207) 203-3027; email: Lewis.Loon@kruger.com.

i. FERC Contact: Karen Sughrue at (202) 502-8556; or email at Karen.Sughrue@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2808-017.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted, and is ready for environmental analysis at this time.

l. The Barker's Mill Project consists of the following existing facilities: (1) A 232-foot-long, 30-foot-high concrete dam with a 125-foot-long spillway section with flashboards, a 46-foot-long non-overflow section with two waste gates along the left buttress, and a 61-foot-long non-overflow section with seven stop-logs adjacent to the intake canal; (2) a 16.5-acre reservoir with a storage capacity of 150-acre-feet; (3) a 60-foot-long, 20-foot-wide, 9 foot, 7 inch-deep intake canal on the right bank with seven stop-logs near the intake to the power canal, which serves as the downstream fish passage; (4) a 35-foot-long, 20-foot-wide gatehouse containing a single gate and fitted with trash racks; (5) a buried 650-foot-long, 10 foot, 2 inch-wide, 7 foot, 2 inch-high concrete penstock; (6) a 50-foot-long, 25-foot-wide concrete partially buried powerhouse containing a single semi-Kaplan-type turbine/generating unit with a rated capacity of 1.5 MW; (7) a tailrace; (8) a 250-foot-long, 4.2 kilovolt underground power line; (9) a substation; and (10) appurtenant facilities. The average annual generation is estimated to be 5,087 megawatt-hours.

m. A copy of the application is available for review at the Commission in the Public Reference Room or may be viewed on the Commission's Web site at http://www.ferc.gov using the eLibrary link. Enter the docket number excluding the last three digits in the docket number field to access the document. For assistance, contact FERC Online Support. A copy is also available for inspection and reproduction at the address in item h above.

All filings must (1) bear in all capital letters the title COMMENTS, REPLY COMMENTS, RECOMMENDATIONS, TERMS AND CONDITIONS, or PRESCRIPTIONS; (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

You may also register online at http://www.ferc.gov/docs-filing/esubscription.asp to be notified via email of new filings and issuances related to this or other pending projects. For assistance, contact FERC Online Support.

n. A license applicant must file no later than 60 days following the date of issuance of this notice: (1) A copy of the water quality certification; (2) a copy of the request for certification, including proof of the date on which the certifying agency received the request; or (3) evidence of waiver of water quality certification.

o. Procedural schedule: The application will be processed according to the following schedule. Revisions to the schedule will be made as appropriate.

Major milestone | Target date
Draft EA Issued | June 2018.
Comments on Draft EA due | July 2018.
Final EA Issued | October 2018.

Dated: November 2, 2017.
Kimberly D. Bose,
Secretary.

[FR Doc. 2017-24273 Filed 11-7-17; 8:45 am]

BILLING CODE 6717-01-P